DEPARTMENT OF COMMERCE

International Trade Administration

[A-570-912]

Certain New Pneumatic Off-the-Road Tires From the People's Republic of China: Final Results of the 2008-2009 Antidumping Duty Administrative Review

AGENCY: Import Administration, International Trade Administration, Department of Commerce.

SUMMARY: On October 19, 2010, the Department of Commerce (“Department”) published the preliminary results of the 2008-2009 administrative review of the antidumping duty order on certain new pneumatic off-the-road tires (“OTR tires”) from the People's Republic of China (“PRC”). See Certain New Pneumatic Off-the-Road Tires from the People's Republic of China: Preliminary Results of Antidumping Duty Administrative Review, 75 FR 64259 (October 19, 2010) (“Preliminary Results”). The period of review (“POR”) is February 20, 2008, through August 31, 2009. This review covers six exporters.

We invited interested parties to comment on our Preliminary Results. Based on our analysis of the comments received, we made certain changes to our margin calculations for the individually examined respondent, Hebei Starbright Tire Co., Ltd. (“Starbright”). The final dumping margins for this review are listed in the “Final Results Margins” section below.

DATES: Effective Date: April 25, 2011.

FOR FURTHER INFORMATION CONTACT: Raquel Silva or Andrew Medley, AD/CVD Operations, Office 8, Import Administration, International Trade Administration, U.S. Department of Commerce, 14th Street and Constitution Avenue, NW., Washington, DC 20230; telephone: (202) 482-6475 and (202) 482-4987, respectively.

Background

On October 19, 2010, the Department published its Preliminary Results of the antidumping duty administrative review of OTR tires from the PRC. On November 3, 2010, Starbright submitted its response to the Department's post-preliminary supplemental questionnaire regarding its factors of production database. On November 5, 2010, Starbright submitted its response to the Department's post-preliminary supplemental questionnaire regarding its indirect selling expense categories.

Titan Tire Corporation (“Titan”), the petitioner, Bridgestone Americas Holding, Inc. and subsidiary Bridgestone Firestone North America Tire, LLC (“Bridgestone”), the domestic interested party, and Starbright each submitted publicly available information regarding surrogate values on November 8, 2010. On November 18, 2010, both Titan and Bridgestone requested hearings. On December 9, 2010, Starbright submitted its response to the Department's fifth supplemental questionnaire. The Department verified certain aspects of Starbright's questionnaire responses at GPX International Tire Corporation (“GPX”), Starbright's U.S. sales affiliate, on December 13, 2010, through December 15, 2010. On January 31, 2011, the Department issued its verification report.

On February 3, 2011, the Department received Titan's withdrawal of its request for a hearing. On February 7, 2011, the Department received Titan's case brief and published an extension for the issuance of its final results of the review. See Certain New Pneumatic Off-the-Road Tires from the People's Republic of China: Notice of Extension of Time Limit for the Final Results of the 2008-2009 Administrative Review of the Antidumping Duty Order, 76 FR 6603 (February 7, 2011). On February 8, 2011, the Department received both Bridgestone's and Starbright's case briefs. Bridgestone's withdrawal of a request for a hearing was submitted on February 9, 2011. On February 14, 2011, all parties submitted their rebuttal case briefs.

On February 22, 2011, the Department sent Starbright a letter regarding alleged new factual information submitted in its case brief. Starbright submitted its response to the Department's letter on February 24, 2011. On March 18, 2011, the Department published an additional extension for the issuance of the final results of the review. See Certain New Pneumatic Off-the-Road Tires From the People's Republic of China: Notice of Extension of Time Limit for the Final Results of the 2008-2009 Administrative Review of the Antidumping Duty Order, 76 FR 14906 (March 18, 2011).

Analysis of Comments Received

All issues raised in the case and rebuttal briefs filed by parties in this review are addressed in the Memorandum from Christian Marsh, Deputy Assistant Secretary for Antidumping and Countervailing Duty Operations, to Ronald K. Lorentzen, Deputy Assistant Secretary for Import Administration, regarding, “Certain New Pneumatic Off-the-Road Tires from the People's Republic of China: Issues and Decision Memorandum for the Final Results of the 2008-2009 First Administrative Review of the Antidumping Duty Order,” dated concurrently with this notice (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 7046, and is also accessible on the Web at http://ia.ita.doc.gov/frn. The paper copy and electronic version of the Issues and Decision Memorandum are identical in content.

Period of Review

The POR is February 20, 2008, through August 31, 2009.

Scope of the Order

The products covered by the order are new pneumatic tires designed for off-the-road and off-highway use, subject to exceptions identified below. Certain OTR tires are generally designed, manufactured and offered for sale for use on off-road or off-highway surfaces, including but not limited to, agricultural fields, forests, construction sites, factory and warehouse interiors, airport tarmacs, ports and harbors, mines, quarries, gravel yards, and steel mills. The vehicles and equipment for which certain OTR tires are designed for use include, but are not limited to: (1) Agricultural and forestry vehicles and equipment, including agricultural tractors,¹ combine harvesters,² agricultural high clearance sprayers,³ industrial tractors,⁴ log-skidders,⁵ agricultural implements, highway-towed implements, agricultural logging, and agricultural, industrial, skid-steers/mini-loaders; ⁶ (2) construction vehicles and equipment, including earthmover articulated dump products, rigid frame haul trucks,⁷ front end loaders,⁸ dozers,⁹ lift trucks, straddle carriers,¹⁰ graders,¹¹ mobile cranes,¹² compactors; and (3) industrial vehicles and equipment, including smooth floor, industrial, mining, counterbalanced lift trucks, industrial and mining vehicles other than smooth floor, skid-steers/mini-loaders, and smooth floor off-the-road counterbalanced lift trucks. The foregoing list of vehicles and equipment generally have in common that they are used for hauling, towing, lifting, and/or loading a wide variety of equipment and materials in agricultural, construction and industrial settings. Such vehicles and equipment, and the descriptions contained in the footnotes are illustrative of the types of vehicles and equipment that use certain OTR tires, but are not necessarily all-inclusive. While the physical characteristics of certain OTR tires will vary depending on the specific applications and conditions for which the tires are designed (e.g., tread pattern and depth), all of the tires within the scope have in common that they are designed for off-road and off-highway use. Except as discussed below, OTR tires included in the scope of the order range in size (rim diameter) generally but not exclusively from 8 inches to 54 inches. The tires may be either tube-type ¹³ or tubeless, radial or non-radial, and intended for sale either to original equipment manufacturers or the replacement market. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. While HTSUS subheadings are provided for convenience and customs purposes, our written description of the scope is dispositive.

¹ Agricultural tractors are dual-axle vehicles that typically are designed to pull farming equipment in the field and that may have front tires of a different size than the rear tires.

² Combine harvesters are used to harvest crops such as corn or wheat.

³ Agricultural sprayers are used to irrigate agricultural fields.

⁴ Industrial tractors are dual-axle vehicles that typically are designed to pull industrial equipment and that may have front tires of a different size than the rear tires.

⁵ A log-skidder has a grappling lift arm that is used to grasp, lift and move trees that have been cut down to a truck or trailer for transport to a mill or other destination.

⁶ Skid-steer loaders are four-wheel drive vehicles with the left-side drive wheels independent of the right-side drive wheels and lift arms that lie alongside the driver with the major pivot points behind the driver's shoulders. Skid-steer loaders are used in agricultural, construction and industrial settings.

⁷ Haul trucks, which may be either rigid frame or articulated (i.e., able to bend in the middle) are typically used in mines, quarries and construction sites to haul soil, aggregate, mined ore, or debris.

⁸ Front loaders have lift arms in front of the vehicle. They can scrape material from one location to another, carry material in their buckets, or load material into a truck or trailer.

⁹ A dozer is a large four-wheeled vehicle with a dozer blade that is used to push large quantities of soil, sand, rubble, etc., typically around construction sites. They can also be used to perform “rough grading” in road construction.

¹⁰ A straddle carrier is a rigid frame, engine-powered machine that is used to load and offload containers from container vessels and load them onto (or off of) tractor trailers.

¹¹ A grader is a vehicle with a large blade used to create a flat surface. Graders are typically used to perform “finish grading.” Graders are commonly used in maintenance of unpaved roads and road construction to prepare the base course on to which asphalt or other paving material will be laid.

¹² A counterbalanced lift truck is a rigid framed, engine-powered machine with lift arms that has additional weight incorporated into the back of the machine to offset or counterbalance the weight of loads that it lifts so as to prevent the vehicle from overturning. An example of a counterbalanced lift truck is a counterbalanced fork lift truck. Counterbalanced lift trucks may be designed for use on smooth floor surfaces, such as a factory or warehouse, or other surfaces, such as construction sites, mines, etc.

¹³ While tube-type tires are subject to the scope of this proceeding, tubes and flaps are not subject merchandise and therefore are not covered by the scope of this proceeding, regardless of the manner in which they are sold (e.g., sold with or separately from subject merchandise).

Specifically excluded from the scope are new pneumatic tires designed, manufactured and offered for sale primarily for on-highway or on-road use, including passenger cars, race cars, station wagons, sport utility vehicles, minivans, mobile homes, motorcycles, bicycles, on-road or on-highway trailers, light trucks, and trucks and buses. Such tires generally have in common that the symbol “DOT” must appear on the sidewall, certifying that the tire conforms to applicable motor vehicle safety standards. Such excluded tires may also have the following designations that are used by the Tire and Rim Association:

Prefix letter designations:

• P—Identifies a tire intended primarily for service on passenger cars;

• LT—Identifies a tire intended primarily for service on light trucks; and,

• ST—Identifies a special tire for trailers in highway service.

Suffix letter designations:

• TR—Identifies a tire for service on trucks, buses, and other vehicles with rims having specified rim diameter of nominal plus 0.156″ or plus 0.250″;

• MH—Identifies tires for Mobile Homes;

• HC—Identifies a heavy duty tire designated for use on “HC” 15″ tapered rims used on trucks, buses, and other vehicles. This suffix is intended to differentiate among tires for light trucks, and other vehicles or other services, which use a similar designation.

• Example: 8R17.5 LT, 8R17.5 HC;

• LT—Identifies light truck tires for service on trucks, buses, trailers, and multipurpose passenger vehicles used in nominal highway service; and

• MC—Identifies tires and rims for motorcycles.

The following types of tires are also excluded from the scope: pneumatic tires that are not new, including recycled or retreaded tires and used tires; non-pneumatic tires, including solid rubber tires; tires of a kind designed for use on aircraft, all-terrain vehicles, and vehicles for turf, lawn and garden, golf and trailer applications. Also excluded from the scope are radial and bias tires of a kind designed for use in mining and construction vehicles and equipment that have a rim diameter equal to or exceeding 39 inches. Such tires may be distinguished from other tires of similar size by the number of plies that the construction and mining tires contain (minimum of 16) and the weight of such tires (minimum 1500 pounds).

Separate Rates

In proceedings involving NME countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers from the People's Republic of China, 56 FR 20588 (May 6, 1991) (“Sparklers”), as amplified by Notice of Final Determination of Sales at Less Than Fair Value: Silicon Carbide from the People's Republic of China, 59 FR 22585 (May 2, 1994) (“Silicon Carbide”), and 19 CFR 351.107(d).

In the Preliminary Results, we found that Starbright and the separate-rate respondents, Hangzhou Zhongce Rubber Co., Ltd. (“Hangzhou Zhongce”), KS Holding Limited/KS Resources Limited (“KS Ltd.”), Laizhou Xiongying Rubber Industry Co., Ltd. (“Laizhou Xiongying”), Qingdao Taifa Group Co., Ltd. (“Qingdao Taifa”), and Weihai Zhongwei Rubber Co., Ltd. (“Weihai Zhongwei”), demonstrated their eligibility for separate-rate status. See Preliminary Results, 75 FR at 64261-62. As stated in the Preliminary Results, Starbright and KS Ltd. reported that they are wholly foreign-owned, and therefore, consistent with the Department's practice, a further separate rate analysis was not necessary to determine whether Starbright's and KS Ltd.'s export activities were independent from government control, and we preliminarily granted a separate rate to Starbright and KS Ltd.¹⁴ For the final results, we continue to find that Starbright and KS Ltd. are eligible for separate rate status. For the final results, we also continue to find that the evidence placed on the record of this review by Hangzhou Zhongce, Laizhou Xiongying, Qingdao Taifa, and Weihai Zhongwei demonstrates both a de jure and de facto absence of government control, with respect to their respective exports of the merchandise under review, and, thus are eligible for separate-rate status. See Preliminary Results, 75 FR at 64262.

¹⁴ See, e.g., Notice of Final Determination of Sales at Less Than Fair Value: Creatine Monohydrate from the People's Republic of China, 64 FR 71104, 71104-05 (December 20, 1999) (where the respondent was wholly foreign-owned and, thus, qualified for a separate rate).

Margin for the Separate Rate Companies

As discussed above, the Department continues to find that Hangzhou Zhongce, KS Ltd., Laizhou Xiongying, Qingdao Taifa, and Weihai Zhongwei have demonstrated their eligibility for a separate rate. For the exporters subject to a review that are determined to be eligible for separate rate status, but are not selected as individually examined respondents, the Department generally weight-averages the rates calculated for the individually examined respondents, excluding any rates that are zero, de minimis, or based entirely on facts available.¹⁵ Consistent with the Department's practice, as the separate rate, we have established a margin for Hangzhou Zhongce, KS Ltd., Laizhou Xiongying, Qingdao Taifa, and Weihai Zhongwei based on the rate we calculated for the individually examined respondent, Starbright.

¹⁵ See, e.g., Wooden Bedroom Furniture From the People's Republic of China: Preliminary Results of Antidumping Duty Administrative Review, Preliminary Results of New Shipper Review and Partial Rescission of Administrative Review, 73 FR 8273, 8279 (February 13, 2008) (unchanged in Wooden Bedroom Furniture from the People's Republic of China: Final Results of Antidumping Duty Administrative Review and New Shipper Review, 73 FR 49162 (August 20, 2008)).

Changes Since the Preliminary Results

Based on an analysis of the comments received, the Department has made certain changes to the margin calculations. For the final results, the Department has made the following changes to Starbright's Margin Calculation:

• Invoices: Invoice numbers, customer codes and payment terms have been revised for two invoices in the U.S. sales database. See Memorandum titled “Analysis Memorandum for the Final Results: Hebei Starbright Tire Co., Ltd. (“Final Analysis Memorandum”), dated concurrently with this notice. See also Memorandum titled “First Administrative Review of Certain New Pneumatic Off-the-Road Tires (“OTR Tires”) from the People's Republic of China (“PRC”)—Verification of the Sales Information of Hebei Starbright Tire Co., Ltd. and its U.S. Affiliate GPX International Tire Corp.,” dated January 31, 2011 (“Verification Report”).

• Set Adjustments: Set adjustments have been applied to multiple sales in the U.S. sales database. See Final Analysis Memorandum. See also Verification Report.

• U.S. Inland Freight from Warehouse to Customer: For the final results, we have revised the adjustment regarding U.S. inland freight from warehouse to customer. See Final Analysis Memorandum. See also Verification Report.

• Rebate Adjustments: Regarding rebate adjustments, we have: eliminated the reliance upon facts available with adverse inference under sections 776(a)(1), 776(a)(2)(B), and 776(b) of the Tariff Act of 1930, as amended (the “Act”), used in the Preliminary Results and, in its place, applied a rebate adjustment to the 2009 sales of multiple customers; and modified the rebate adjustment for one customer's 2008 sales. See Comment 4 of the Issues and Decision Memorandum. See also Final Analysis Memorandum and Verification Report.

• Credit: Regarding credit adjustments, we have: revised the adjustments to account for revisions to the above-mentioned rebate adjustments; and revised the average interest rate used to calculate credit adjustments. Regarding the sales for which Starbright was not able to report a payment date, we have used partial facts available in accordance with sections 776(a)(1) and 776(a)(2)(B) of the Act. See Comment 4 of the Issues and Decision Memorandum. See also Final Analysis Memorandum. See also Verification Report.

• Inventory Carrying Costs: We have modified the average number of days in inventory used to calculate the adjustment for inventory carrying costs. See Comment 4 of the Issues and Decision Memorandum. See also Final Analysis Memorandum and Verification Report.

• Indirect Selling Expenses: Regarding indirect selling expenses, we have: included two additional indirect selling accounts; and modified our calculation to more comprehensively capture all of GPX's indirect selling expenses attributable to the sales of subject merchandise. See Comments 2 and 3 of the Issues and Decision Memorandum. See also Final Analysis Memorandum.

• Indirect Labor: After the Preliminary Results, Starbright submitted data regarding its use of supervisory and quality control labor. For the final results we have added the new supervisory and quality control indirect labor usage to the original indirect labor usage for a new total indirect labor usage. See Comment 5 of the Issues and Decision Memorandum. See also Final Analysis Memorandum.

• Non-production Electricity: For the final results, we are removing electricity consumed by Starbright in its energy department and supporting department from our calculations of energy consumed for production. See Comment 6 of the Issues and Decision Memorandum. See also Final Analysis Memorandum.

• Brokerage and Handling: For the final results, we are no longer deflating brokerage and handling costs. See Comment 9 of the Issues and Decision Memorandum. See also Final Analysis Memorandum and Memorandum titled “Preliminary Results of the Administrative Review of the Antidumping Duty Order on Certain New Pneumatic Off-the-Road Tires from the People's Republic of China: Surrogate Value Memorandum,” dated October 7, 2010 (“Surrogate Value Memorandum”).

• Adjustments to Surrogate Financial Ratios: For the final results, in Goodyear India Limited's financial statement we have: excluded a portion of “Liabilities/Provision no longer required written back”; reclassified “Retirement Gratuities” as manufacturing overhead; and corrected two clerical errors. See Comments 7 and 11 of the Issues and Decision Memorandum. See also Surrogate Value Memorandum.

• Rubber Softener (RSOFT): We have applied a daily exchange rate based on the date of sale to the surrogate value for RSOFT. See Comment 10 of the Issues and Decision Memorandum. See also Final Analysis Memorandum.

• Export Subsidy Adjustment: Section 772(c)(1)(C) of the Act unconditionally states that U.S. price “shall be increased by the amount of any countervailing duty imposed on the subject merchandise * * * to offset an export subsidy”.¹⁶ The Department determined in its final results of the companion countervailing duty administrative review that Starbright's merchandise benefited from export subsidies.¹⁷ Therefore, we have increased Starbright's U.S. price for countervailing duties imposed attributable to export subsidies, where appropriate. See Final Analysis Memorandum.

¹⁶ See, e.g., Carbazole Violet Pigment 23 from India: Final Results of Antidumping Duty Administrative Review, 75 FR 38076, 38077 (July 1, 2010), and accompanying Issues and Decision Memorandum at Comment 1.

¹⁷ See New Pneumatic Off-the-Road Tires From the People's Republic of China: Final Results of Countervailing Duty Administrative Review, dated concurrently with this notice.

Adverse Facts Available

Sections 776(a)(1) and (2) of the Act provide that the Department shall apply “facts otherwise available” if, inter alia, necessary information is not on the record or an interested party or any other person: (A) withholds information that has been requested; (B) fails to provide information within the deadlines established, or in the form and manner requested by the Department, subject to subsections (c)(1) and (e) of section 782 of the Act; (C) significantly impedes a proceeding; or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information if it can do so without undue difficulties.

Section 776(b) of the Act further provides that the Department may use an adverse inference in applying the facts otherwise available when a party has failed to cooperate by not acting to the best of its ability to comply with a request for information. Section 776(b) of the Act also authorizes the Department to use as adverse facts available (“AFA”) information derived from the petition, the final determination, a previous administrative review, or other information placed on the record.

For the Preliminary Results, the Department applied partial AFA to a number of products with unreported factors of production. See Preliminary Results, 75 FR at 64265-66. No parties have commented on this issue since that time, and the record regarding the products in question remains the same. For this reason, we determine that, in accordance with sections 776(a)(1), 776(a)(2)(B), 776(a)(2)(C), and 776(b) of the Act, continued use of partial AFA is appropriate for the final results with respect to Starbright. See Final Analysis Memo.

Final Results Margins

We determine that the following weighted-average dumping margins exist for the period February 20, 2008, through August 31, 2009:

OTR Tires From the PRC
Exporter | Weighted-average margin (percent)
Hebei Starbright Tire Co., Ltd | 28.97
Hangzhou Zhongce Rubber Co., Ltd | 28.97
KS Holding Limited/KS Resources Limited | 28.97
Laizhou Xiongying Rubber Industry Co., Ltd | 28.97
Qingdao Taifa Group Co., Ltd | 28.97
Weihai Zhongwei Rubber Co., Ltd | 28.97

Assessment Rates

Pursuant to section 751(a)(2)(A) of the Act and 19 CFR 351.212(b), the Department will determine, and CBP shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). We intend to instruct CBP to liquidate entries containing subject merchandise exported by the PRC-wide entity at the PRC-wide rate of 210.48 percent. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) For Starbright,¹⁸ Hangzhou Zhongce, KS Ltd., Laizhou Xiongying, Qingdao Taifa, and Weihai Zhongwei, the cash deposit rate will be the margins listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 210.48 percent determined in the less-than-fair-value investigation; and (4) for all non-PRC exporters of subject merchandise which have not received their own rate, the cash deposit rate will be the rate applicable to the PRC exporter that supplied that non-PRC exporter. These deposit requirements shall remain in effect until further notice.

¹⁸ While the instant review covered Starbright as the exporter, the draft cash deposit instructions released with the Preliminary Results inadvertently identified “Hebei Starbright Co., Ltd./GPX International Co., Ltd.” as the exporter. We have corrected the cash deposit instructions to identify only Starbright as the exporter.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: April 18, 2011.
Ronald K. Lorentzen,
Deputy Assistant Secretary for Import Administration.

Appendix I

Comment 1: Whether to Treat Certain Inputs as Manufacturing Overhead or FOPs

Comment 2: Treatment of Warehousing-Related Expenses

Comment 3: Calculation of ISE Ratio

Comment 4: Whether to Make Certain Changes Based on Verification Findings

Comment 5: Treatment of Supervisory and Quality Control Labor

Comment 6: Calculation of Starbright's Electricity Consumption

Comment 7: Correction of Alleged Ministerial Errors

Comment 8: Valuation of Wage Rate

Comment 9: Valuation of Brokerage and Handling

Comment 10: Valuation of RSOFT

Comment 11: Selection and Calculation of Financial Ratios

Comment 12: Whether to Grant MOE Treatment

Comment 13: Double Remedies

Comment 14: Zeroing

[FR Doc. 2011-9964 Filed 4-22-11; 8:45 am]

BILLING CODE 3510-P